Proclamation 9239 of February 27, 2015

National Consumer Protection Week, 2015

By the President of the United States of America

A Proclamation

As Americans, we believe that our destiny is written by us—not for us—and that ours is a country where hard work should pay off and responsibility should be rewarded. Through all of the challenges we have overcome and the grueling work required to bring our economy out of the worst financial crisis since the Great Depression, we have held on to that promise. Yet each day, fraud, abuse, and theft threaten the economic well-being of individuals and families across our Nation who spend their lives striving to build a sense of security. During National Consumer Protection Week, we redouble our efforts to protect Americans from financial fraud and identity theft, and to ensure our economy gives every person a chance to succeed.

Over the past 6 years, my Administration has been committed to protecting the hard-earned money and privacy of our citizens. In today's digital age, we are more connected and do more online than ever before. Unfortunately, the very technologies that empower us to do great good can also be used to undermine us and inflict great harm. That is why my Administration is working to create a single, strong national standard so people know when their information has been stolen or misused, and why we are encouraging companies to equip consumers with their credit scores free of charge so they can quickly detect and deal with fraud. I also continue to call on the Congress to enact overdue cybersecurity legislation that will help protect Americans—particularly by clarifying companies' obligations when sensitive data is breached.

As part of our BuySecure Initiative, the Federal Government is leading the way by transitioning to a more secure chip and PIN payment system—because you should be able to visit our National Parks or use the Postal Service without risking your identity. Earlier this year, we convened the first-ever White House Summit on Cybersecurity and Consumer Protection, and we are taking new steps to assist the victims of identity theft. Furthermore, Americans who responsibly prepare for retirement should not be taken advantage of, so we are proposing a new rule to require retirement advisors to put their clients' financial interests before their own. We have also introduced a discussion draft of legislation for a new Consumer Privacy Bill of Rights to safeguard basic principles that both defend personal privacy and allow industry to keep innovating.

Consumers can also take steps to protect themselves and their families. Predatory and deceptive lending practices, identity theft, financial scams, and fraud can cause lasting devastation for victims. By empowering ourselves with information about our rights and the resources available to us, we can be prepared and make better-informed decisions. I encourage everyone to visit www.NCPW.gov and www.IdentityTheft.gov to learn more about the risks and vulnerabilities we all face, as well as the steps we can take to defend ourselves and the tools and support available to help save time, money, and heartache.

When we, as Americans, put our minds together and our shoulders to the wheel, we can accomplish anything. The United States created the Internet and a new age of information—but we also pioneered the Bill of Rights, and we believe individuals have a sphere of privacy around them that should not be breached. This week, let us recommit to safeguarding consumers, and let us strive to grow our economy in ways that preserve the values we hold dear so that each of us has the power to translate our dreams into reality.

NOW, THEREFORE, I, BARACK OBAMA, President of the United States of America, by virtue of the authority vested in me by the Constitution and the laws of the United States, do hereby proclaim March 1 through March 7, 2015, as National Consumer Protection Week. I call upon government officials, industry leaders, and advocates across the Nation to share information about consumer protection and provide our citizens with information about their rights as consumers.

IN WITNESS WHEREOF, I have hereunto set my hand this twenty-seventh day of February, in the year of our Lord two thousand fifteen, and of the Independence of the United States of America the two hundred and thirty-ninth.

[FR Doc. 2015-04517

Filed 3-3-15; 11:15 am]

Billing code 3295-F5